DEPARTMENT OF LABOR

Employment and Training Administration

[TA-W-65,193]

Prime Tanning Company, Hartland, ME; Notice of Termination of Investigation

In accordance with Section 221 of the Trade Act of 1974, as amended, an investigation was initiated on February 9, 2009 in response to a petition filed by a company official on behalf of workers of Prime Tanning Company, Hartland, Maine.

The petitioner has requested that the petition be withdrawn. Consequently, the investigation has been terminated.

Signed in Washington, DC, this 13th day of March, 2009.
Richard Church,
Certifying Officer, Division of Trade Adjustment Assistance.

[FR Doc. E9-6296 Filed 3-23-09; 8:45 am]

BILLING CODE 4510-FN-P